DEPARTMENT OF THE INTERIOR

Fish and Wildlife Service

[Docket No. FWS-R4-ES-2025-0968; FXES11140400000-256-FF04EF4000]

Receipt of Three Incidental Take Permit Applications for Participation in the General Conservation Plan for the Alabama Beach Mouse; Categorical Exclusion; Baldwin County, AL

AGENCY: Fish and Wildlife Service, Interior.

ACTION: Notice of availability; request for comment.

SUMMARY: We, the Fish and Wildlife Service, announce receipt of applications from Joseph Pianalto, Jeffrey W. Floyd, and Robert Holzberger (applicants) for separate incidental take permits (ITP), pursuant to the Endangered Species Act (ESA) and the National Environmental Policy Act under the approved general conservation plan (GCP) and final environmental impact statement for the Alabama beach mouse. A GCP is a mechanism that meets the definition of a conservation plan in section 10(a)(1)(B) of the ESA and enables the construction of a programmatic permitting and conservation process to address a defined suite of proposed activities over a defined planning area. Each applicant requests an ITP to take the federally listed Alabama beach mouse incidental to the construction of a single-family home in Baldwin County, Alabama. We invite public comment from the public and local, State, Tribal, and Federal agencies.

DATES: We must receive your written comments on or before March 2, 2026.

ADDRESSES:

Obtaining Documents: The documents this notice announces, as well as any comments and other materials that we receive, will be available for public inspection online in Docket No. FWS-R4-ES-2025-0968 at https://www.regulations.gov.

Submitting Comments: If you wish to submit comments on any of the documents, you may do so in writing by one of the following methods:

• Online: https://www.regulations.gov. Follow the instructions for submitting comments on Docket No. FWS-R4-ES-2025-0968.

• U.S. mail: Public Comments Processing, Attn: Docket No. FWS-R4-ES-2025-0968; U.S. Fish and Wildlife Service, MS: PRB/3W, 5275 Leesburg Pike, Falls Church, VA 22041-3803.

FOR FURTHER INFORMATION CONTACT: Erin Lentz, by U.S. mail (see ADDRESSES), by telephone at 1-251-298-3853, or via email at erin_lentz@fws.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of applications, under the approved General Conservation Plan (GCP) for the Alabama beach mouse from Joseph Pianalto, Jeffrey W. Floyd and Robert Holzberger for three separate incidental take permits (ITP) under the Endangered Species Act, as amended (ESA; 16 U.S.C. 1531 et seq.) and in compliance with the National Environmental Policy Act of 1969 (NEPA; 42 U.S.C. 4321 et seq.), as amended and the Department of the Interior NEPA regulations (43 CFR 46). Each applicant requests an ITPs to take the federally listed Alabama beach mouse (Peromyscus polionotus ammobates) incidental to the construction, maintenance and operation of a single-family home in Baldwin County, Alabama. We request public comment on each applicants' habitat conservation plans (HCP) and on the Service's preliminary determination that the proposed ITPs qualify under the GCP and Final Environmental Impact Statement (FEIS) for the Alabama beach mouse published on March 28, 2012 (FWS-R4-ES-2012-N063).

Proposed Projects

Permit Number: PER21705285

Joseph Pianalto, applicant, requests a 50-year ITP to take Alabama beach mice via the conversion of 0.10 acre (ac) of occupied nesting, foraging, and sheltering ABM habitat incidental to the construction of a single-family home on a 0.66-ac parcel located off Bonita Lane in Gulf Shores, Alabama. The applicant proposes to mitigate for the take of ABM through an in-lieu fee of $10,005.00 to the Alabama Coastal Heritage Trust's Alabama beach mouse conservation fund.

Permit Number: PER21702947

Jeffrey W. Floyd, applicant, requests a 50-year ITP to take Alabama beach via the conversion of approximately 0.13-ac of occupied nesting, foraging, and sheltering ABM habitat incidental to the construction of a single-family home on a 0.964-ac lot. The parcel is located at 2549 W Beach Boulevard, in Gulf Shores, Alabama. The applicant proposes to mitigate for the take of ABM through an in-lieu fee of $12,590.20 to the Alabama Coastal Heritage Trust's Alabama beach mouse conservation fund.

Permit Number: PER21705302

Robert Holzberger, applicant, requests a 50-year ITP to take Alabama beach mice via the conversion of approximately 0.086-ac of occupied nesting, foraging, and sheltering ABM habitat incidental to the construction of a single-family home on a 0.57-ac lot. The parcel is located on Palmetto Drive in Gulf Shores, Alabama. The applicant proposes to mitigate for the take of ABM through an in-lieu fee of $8,579 to the Alabama Coastal Heritage Trust's ABM conservation fund.

Our Preliminary Determination

The Service has made a preliminary determination that reasonably foreseeable effects of each applicants' proposed projects, including the construction of the three single family homes, would have a minor effect on Alabama beach mice and the human environment. Reasonably foreseeable effects encompass effects of the implementation of the action along with other past, present, and reasonably foreseeable future effects. Therefore, we have preliminarily determined that each proposed ESA section 10(a)(1)(B) permit would meet the requirements of the GCP and FEIS.

Next Steps

The Service will evaluate each application and the comments to determine whether to issue the requested ITP. We will also conduct an intra-Service consultation pursuant to section 7 of the ESA to evaluate the effects of the proposed take. After considering the preceding and other matters, we will determine whether the permit issuance criteria of section 10(a)(1)(B) of the ESA have been met. If met, the Service will issue ITP number PER21705285 to Joseph Pianalto, PER21702947 to Jeffrey W. Floyd, and PER21705302 to Robert Holzberger.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses and from individuals identifying themselves as representatives or officials of organizations or businesses will be made available for public disclosure in their entirety.

Authority

The Service provides this notice under section 10(c) of the Endangered Species Act (16 U.S.C. 1531 et seq.) and its implementing regulations (50 CFR 17.32) and the National Environmental Policy Act (42 U.S.C. 4321 et seq.) and its implementing regulations and guidance.

Jeffrey Powell,
Field Supervisor, Alabama Ecological Service Field Office.

[FR Doc. 2026-01769 Filed 1-28-26; 8:45 am]

BILLING CODE 4333-15-P